DEPARTMENT OF AGRICULTURE

Agricultural Marketing Service

[PY-00-004]

Voluntary Grade Standards for Rabbits and U.S. Grade C-Quality Poultry

AGENCY: Agricultural Marketing Service, USDA.

ACTION: Notice.

SUMMARY: The Agricultural Marketing Service (AMS) proposes to change the voluntary United States Grade Standards for Rabbits. Specifically, the changes will add stewer rabbits to the roaster and mature rabbit class; update and clarify the tolerances for conformation, fleshing, disjointed and broken bones, and freezing; and provide new tolerances for cuts and tears and discolorations. The standards are being updated to provide more specific grade factors for increasing accuracy of grade determination. Additionally, AMS will update the voluntary United States Grade Standards for Grade C-quality ready-to-cook poultry for consistency with existing U.S. Grade A and B standards.

DATES: Comments must be received on or before October 15, 2001.

ADDRESSES: Written comments may be submitted to David Bowden, Chief, Standardization Branch, Poultry Programs, AMS, USDA, Room 3944-South Bldg., STOP 0259, 1400 Independence Avenue, SW, Washington, DC 20250-0259; faxed to (202) 690-0941; or e-mailed to pydocket@usda.gov.

All comments received will be available for public inspection during regular business hours (8 a.m.—4:30 p.m. eastern time).

The current United States Grade Standards for Poultry and Rabbits, along with the proposed changes, are available either through the above address or AMS's Internet site at: www.ams.usda.gov/standards.

FOR FURTHER INFORMATION: Contact Rex A. Barnes at (202) 720-3271.

SUPPLEMENTARY INFORMATION: Poultry grading is a voluntary program provided under the Agricultural Marketing Act of 1946, as amended, 7 U.S.C. 1621 et seq., and is offered on a fee-for-service basis. Section 203(c) of the Agricultural Marketing Act of 1946, as amended, directs and authorizes the Secretary of Agriculture “to develop and improve standards of quality, condition, grade, and packaging and recommend and demonstrate such standards in order to encourage uniformity and consistency in commercial practices * * *.” AMS is committed to carrying out this authority in a manner that facilitates the marketing of agricultural commodities.

On December 4, 1995, the Voluntary United States Grade Standards for Rabbits and Poultry were removed from the Code of Federal Regulations (CFR) as part of the National Performance Review program. AMS continues to administer the voluntary standards, maintaining their existing numbering system, and copies of the official standards are available upon request.

The U.S. Grade Standards for Rabbits and Poultry were last revised on April 29, 1998. These revisions changed poultry feather tolerances and added new boneless, skinless and size-reduced poultry products. Since that time, rabbit producers and processors have requested that AMS clarify the rabbit standards by developing detailed defect tolerances for cuts and tears, discolorations, and freezing defects to reflect the developing processing technology. Rabbit processors hope to use these standards to assist in marketing graded rabbit products.

AMS proposes to add stewer rabbits to the class of roaster and mature rabbits and decrease the age requirement for these rabbits to six months of age. This change is consistent with actual rabbit grower and breeding terminology.

The following proposed changes pertain to the standards for Grades A-, B-, and C-quality rabbits:

(1) Updated information will be provided for conformation and fleshing. Current grade criteria describe hip and back characterizations that are not applicable to meat-yielding rabbit breeds today.

(2) Disjointed and broken bone criteria will be updated to reflect actual processing activities including the presence of broken bones due to the removal of head and feet. Tolerances will be established to indicate points at which a bone may be broken regarding the start of the meat tissue.

(3) The term “pockmarks” will be removed from the freezing defects section and replaced with “drying out of the outer layer of flesh.” AMS has found that the pockmarks are traditionally found on skin-on poultry and are not applicable to rabbits. The drying out of the outer layer of flesh (freezer burn) is a more descriptive explanation for freezing defects that occur on rabbit products during frozen storage.

(4) New tolerances will be established for cuts and tears. Current standards do not allow or identify a length for cuts or tears regardless of grade being produced. Processors have expressed that since the hide or pelt must be removed from all rabbits, hand and mechanical cuts are often needed to start the hide or pelt removal process making this requirement unrealistic. AMS agrees and has worked with the industry to develop a tolerance for the cuts and tears to reflect industry-processing techniques.

(5) New discoloration tolerances will be defined to indicate whether slight, lightly shaded, or moderately shaded discolorations, blood clots, or incomplete bleeding will be allowed. Current standards do not indicate the dimensions for discolorations making the grade establishment of rabbit carcasses and parts more difficult.

With respect to U.S. Grade C-quality standards for poultry, AMS proposes to add subject headings and text for poultry conformation, fleshing, fat covering, defeathering, exposed flesh, discolorations, trimming, and freezing defects to clearly define and coincide with the requirements printed in the Grade C-quality table. These additions are consistent with the current written format for U.S. Grades A-and B-quality poultry and impose no new requirements to industry.

Other miscellaneous changes are proposed to remove obsolete material, clarify, simplify, and technically correct the standards. These changes to the rabbit and poultry standards impose no new requirements.

Dated: August 10, 2001.
Kenneth C. Clayton,
Acting Administrator, Agricultural Marketing Service.

[FR Doc. 01-20583 Filed 8-15-01; 8:45 am]

BILLING CODE 3410-02-P